DEPARTMENT OF HEALTH AND HUMAN SERVICES

Centers for Disease Control and Prevention

National Task Force on Fetal Alcohol Syndrome and Fetal Alcohol Effect: Meeting

In accordance with section 10(a)(2) of the Federal Advisory Committee Act (Pub. L. 92-463), the Centers for Disease Control and Prevention (CDC) announces the following Federal advisory committee meeting.

Name: National Task Force on Fetal Alcohol Syndrome and Fetal Alcohol Effect (NTFFASFAE).

Times and Dates:

8:30 a.m.-4:30 p.m., September 20, 2002.

8:30 a.m.-12 noon, September 21, 2002.

Place: Hyatt Regency, 265 Peachtree Street, N.E., Atlanta, Georgia 30303, telephone 404/577-1234, fax 404/588-3752.

Status: Open to the public, limited only by the space available. The meeting room accommodates approximately 65 people.

Purpose: The Secretary is authorized by the Public Health Service Act, section 399H, (42 U.S.C. 280f, as added by Public Law 105-392) to establish a National Task Force on Fetal Alcohol Syndrome and Fetal Alcohol Effect to: (1) Foster coordination among all governmental agencies, academic bodies and community groups that conduct or support Fetal Alcohol Syndrome (FAS) and Fetal Alcohol Effect (FAE) research, programs and surveillance; and (2) to otherwise meet the general needs of populations actually or potentially impacted by FAS and FAE.

Matters To Be Discussed: Discussions will focus on ways the Task Force can collaborate with CDC and other Federal agencies on issues of diagnostic criteria for FAS/Alcohol Related Neurodevelopmental Disorder (ARND) in order to enhance health care providers' recognition of these disorders, and to ensure that those affected and their families receive needed services; the special needs of birth mothers of children with FAS/ARND; a report of the Substance Abuse and Mental Health Services Administration FAS/FAE Center for Excellence on their initial “stakeholders” meetings and future plans; an update on activities from the Interagency Coordinating Committee on Fetal Alcohol Syndrome; new research and program updates from the CDC; and a discussion of the implementation of the Task Force recommendations by various governmental agencies. Additional agenda items include: Working group updates; discussion of future topics, and scheduling the next meeting.

Agenda items are subject to change as priorities dictate.

Contact Person for More Information: R. Louise Floyd, DSN, RN, Designated Federal Official, National Center on Birth Defects and Developmental Disabilities, CDC, 4700 Buford Highway, NE, (F-49), Atlanta, Georgia 30333, telephone 770/488-7372, fax 770/488-7361.

The Director, Management Analysis and Services Office, has been delegated the authority to sign Federal Register notices pertaining to announcements of meetings and other committee management activities for both the CDC and ATSDR.

Dated: August 2, 2002.
John Burckhardt,
Acting Director, Management Analysis and Services Office, , Centers for Disease Control and Prevention.

[FR Doc. 02-20037 Filed 8-7-02; 8:45 am]

BILLING CODE 4163-18-P